ENVIRONMENTAL PROTECTION AGENCY

[EPA-HQ-OECA-2014-0081; FRL-9989-97-OEI]

Information Collection Request Submitted to OMB for Review and Approval; Comment Request; NESHAP for Reinforced Plastic Composites Production (Renewal)

AGENCY: Environmental Protection Agency (EPA).

ACTION: Notice.

SUMMARY: The Environmental Protection Agency (EPA) has submitted an information collection request (ICR), NESHAP for Reinforced Plastic Composites Production (EPA ICR No. 1976.07, OMB Control No. 2060-0509), to the Office of Management and Budget (OMB) for review and approval in accordance with the Paperwork Reduction Act. This is a proposed extension of the ICR, which is currently approved through March 31, 2019. Public comments were previously requested via the Federal Register on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 17, 2019.

ADDRESSES: Submit your comments, referencing Docket ID Number EPA-HQ-OECA-2014-0081, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Reinforced Plastic Composites (RPC) Production (40 CFR part 63, subpart WWWW) apply to both existing facilities and new facilities with reinforced plastic composites (RPC) production operations and processes. New facilities include those that commenced construction or reconstruction after the date of proposal.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart WWWW.

Form Numbers: None.

Respondents/affected entities: Facilities with RPC production operations and processes.

Respondent's obligation to respond: Mandatory (40 CFR part 63, subpart WWWW).

Estimated number of respondents: 448 (total).

Frequency of response: Initially, occasionally, and semiannually.

Total estimated burden: 14,800 hours (per year). Burden is defined at 5 CFR 1320.3(b).

Total estimated cost: $2,160,000 (per year), which includes $468,000 annualized capital/startup and/or operation & maintenance costs.

Changes in the Estimates: The decrease in burden from the most-recently approved ICR is not due to any program changes. The change in the burden and cost estimates occurred because the total number of respondents has decreased due to consolidation within the industry, and no new respondents are anticipated over the next three years of this ICR. The decrease in the number of existing and new respondents also results in a reduced number of total annual responses; this ICR reduces the number of responses associated with submittal of exceedance reports from existing respondents and excludes responses associated with the submittal of initial notifications or performance test plans or results that were previously only required from new respondents. Additionally, there is a decrease in the Agency burden as this ICR removes the burden associated with review of submitted initial notifications and materials related to performance tests, which are only applicable to new respondents. There is also an adjustment decrease in the capital/startup and O&M costs due to the reduced number of respondents.

Courtney Kerwin,
Director, Regulatory Support Division.

[FR Doc. 2019-05007 Filed 3-15-19; 8:45 am]

BILLING CODE 6560-50-P